DEPARTMENT OF VETERANS AFFAIRS

Funding Availability Under Supportive Services for Veteran Families Program

AGENCY: Veterans Health Administration, Department of Veterans Affairs.

ACTION: Notice of Fund Availability (NOFA); correction.

SUMMARY: This notice corrects a provision requiring grantees to have spent a certain amount of their previous grant award by a certain date, as stated in the Department of Veterans Affairs' February 3, 2015 NOFA, as amended on March 17, 2015,

Announcement Type: Amendment.

Funding Opportunity Number: VA-SSVF-021015.

Catalog of Federal Domestic Assistance Number: 64.033, VA Supportive Services for Veteran Families Program.

DATES: Applications made in response to this amendment are due April 10, 2015.

FOR FURTHER INFORMATION CONTACT: Mr. John Kuhn, Supportive Services for Veteran Families Program Office, National Center on Homelessness Among Veterans, 4100 Chester Avenue, Suite 201, Philadelphia, PA 19104; (877) 737-0111 (this is a toll-free number); SSVF@va.gov.

For a Copy of the Application Package: Copies of the application can be downloaded directly from the SSVF Program Web site at: www.va.gov/homeless/ssvf.asp. Questions should be referred to the SSVF Program Office via phone at (877) 737-0111 (toll-free number) or via email at SSVF@va.gov. For detailed SSVF Program information and requirements, see part 62 of title 38, Code of Federal Regulations (38 CFR part 62).

SUPPLEMENTARY INFORMATION: In the Federal Register of March 17, 2015, in FR Doc. 2015-05941, on page 13958, in the third column, under “II. Allocation of Funds” correct paragraph (2) to read: “(2) Applicants must have spent no less than 46 percent of their total direct service portion of their 3-year grant award (this includes direct service staff and funds allocated for temporary financial assistance) no later than August 30, 2015.”

Dated: April 2, 2015.
Jeffrey M. Martin,
Office of Regulation Policy & Management, Office of the General Counsel, Department of Veterans Affairs.

[FR Doc. 2015-07903 Filed 4-3-15; 8:45 am]

BILLING CODE 8320-01-P